DEPARTMENT OF HEALTH AND HUMAN SERVICES

Administration for Children and Families

Office of Financial Services, Division of Financial Integrity

Funding Opportunity Title: Public Assistance Reporting Information System (PARIS) State Partnership Grants.

Announcement Type: Initial.

Funding Opportunity Number: HHS-2005-ACF-OA-TA-0017.

CFDA Number: 93.647.

Due Date for Applications: Application is due June 24, 2005.

Executive Summary: The Consolidated Appropriations Act, 2005 (House of Representatives H.R. 4818—November 19, 2004) as a part of the Departments of Labor, Health and Human Services (HHS), and Education and Related Agencies Appropriations Act, 2005, pursuant to Public Law 108-447 has appropriated funds to support a wide range of activities intended to encourage additional states to join the PARIS Project and to evaluate its effectiveness. Activities funded under this appropriation will be carried out under Section 1110 of the Social Security Act.

To implement the program and to expand the number of participating jurisdictions, the Administration for Children and Families is issuing this grant announcement. Its purpose is to increase states' participation in the PARIS Project through Partnerships between Member states and Partner states (See Section III.1. Additional Information on Eligibility) resulting in increased matches and a reduction in improper payments.

I. Funding Opportunity Description

PARIS is a voluntary project for those states willing to share public assistance data among a like-minded group of states that wish to maintain program integrity and detect and deter improper payments. The PARIS Project has been operational and matches have been performed every quarter since August 1999. Using the Social Security Number as the key, the match process compares payouts made by states under various benefit programs (for example, Temporary Assistance for Needy Families (TANF), Medicaid and Food Stamps) against various data bases. There are three parts of the PARIS match process: (1) The Veterans Administration (VA) database match which determines if a client is collecting VA benefits; (2) the Interstate match where participating states during a particular quarter match against each other (which determines if a client is collecting benefits in more than one state) and (3) the Federal match, which determines whether anyone receiving public assistance benefits is also collecting a payment as a U.S. Federal or military employee in the form of a retirement pension or as a current member of the military or civilian workforce. The PARIS computer facility performs the PARIS match and provides any hits to the appropriate state, where state staff can verify the data and follow pertinent procedures for notice and opportunity to contest. No permanent database is created for PARIS and all electronic data submissions from all sources are destroyed after each quarterly match run. Participating states are not charged for any costs associated with the matching process. The number of states with signed PARIS agreements is twenty-six (26).

The purpose of this grant announcement is (1) to encourage new states to join PARIS (e.g., sign a PARIS agreement and participate in the PARIS matches) and (2) to provide financial assistance to support a partnership between a Member state currently participating in PARIS and a Partner state, a state currently not participating in the PARIS Project. Either a Member state or a Partner state may initiate the development of an application. By expanding the population of the current PARIS base, more matches may result in greater dollar savings for participant states. This partnership between the two states shall facilitate the establishment of Information Technology (IT) policies and procedures for PARIS implementation in the Partner state. Further, it is intended to enhance the Partner state's capacity to participate in the PARIS Project on a regular basis after the Grant is completed (at least once a year, but preferably more). During the course of the grant period, the Member and Partner states must participate in the PARIS Project at least during the quarterly match in November 2005 and February 2006 in order to allow enough time for the states to follow-up on the match data identifying potential improper payments and allow an evaluation contractor adequate time to assess the effectiveness of PARIS.

After evaluation of all grant applications, and if chosen for an award, the Member state will be awarded a grant under which it will act as a fiduciary agent to the Partner state. The Member state will be responsible for all funding that is provided to its Partner state and will reimburse funding provided hereunder, as costs are incurred, for specific items delineated in its approved grant application budget and in accordance with HHS fiscal and grants management requirements.

The financial assistance will be available to aid Partner states in defraying costs of establishing a new IT capacity to produce PARIS input data in accordance with prescribed parameters, hiring additional staff with PARIS-related duties, cooperating with the evaluation contractor who will be evaluating the cost-effectiveness of the PARIS Project, and working in a professional manner with its Member state and the other selected awardees.

A number of parameters must be considered by the applicants to participate in the competition and to be considered for an award:

(1) The Partnership agreement must be signed by both states. Generally, this is accomplished by an authorized state official (Secretary of Department, Director of Fraud Office, etc., depending where the PARIS Project will be based in the state).

(2) The two states must agree to provide PARIS match results and data on resulting benefits, savings and/or cost effectiveness to the Federal PARIS Project Manager as well as to a separate ACF contractor who will be evaluating PARIS. The states must take care not to release any information considered non-releasable under any relevant Federal statutes such as the Privacy Act or terms and conditions of the PARIS agreement, or in violation of any state laws within the applicable jurisdictions.

(3) The Member state must provide a proposed budget that includes the resources and associated costs it believes are necessary to have its Partner state participate in the match process. This proposed budget will be evaluated for adequacy, reasonableness and to ensure that implementation of the partnership will be both operationally effective and successful. ACF anticipates that the Partner state will have a greater need for financial assistance than the Member state. Examples of the type of activities Partner and Member states may consider under these grants include: Development of data with respect to cost efficiency in cooperation with the evaluation contractor; Partner state coding issues; Staff time and consultations between Member states and Partner states; Travel to support grant activities; Follow-up on “red flags” identified through the Match Process; and Partner state systems development analysis and IT-related changes to accommodate the PARIS Project. This list should not be considered limiting or all-inclusive but merely illustrative. Proposed budgets should include the cost of any travel-related expenses between the Member and Partner states. A two-day PARIS conference followed by a one-day workshop is planned. The purpose of the workshop is to assemble all the selected grant award applicants in one venue to share expectations, address any issues/questions about the process and ensure that expected results are attained. This meeting will focus on orientation to the PARIS Project and related challenges, similarities and differences of states selected under this grant announcement. Funding for this conference and workshop shall be provided separately under an ACF logistics contract. However, applicants selected for award under this announcement should plan on attending both the conference and workshop.

(4) The location of the Partner state selected by the Member state will be examined to determine the appropriateness of the selection. It is recommended that Member states look to their borders (contiguous states) for those states that are NOT members of the PARIS community.

(5) For Member states to be eligible for this funding opportunity they must have participated in at least two of the last six PARIS matches (from November 2003 through February 2005).

(6) Applicants are cautioned that the ceiling for each grant award is $150,000. Applications exceeding the $150,000 threshold will be considered non-responsive and will not be eligible for funding under this announcement.

(7) One application must be submitted for each partnership grant. Member states may submit up to two applications under this grant announcement.

(8) The Partner state must enroll in the PARIS Project and provide a copy of the PARIS agreement with the grant application to document Partner state consent by the closing date of the grants announcement. See the following link for a copy of the PARIS agreement: http://www.acf.hhs.gov/nhsitrc/Aurl.jsp?pageID=sampleparismoa.

(9) When participating in the matches, the Partner state must submit its data electronically through Connect-Direct to the Defense Manpower Data Center in Monterey, California, the official PARIS computer facility.

(10) At a minimum, an award recipient, the Member and Partner states must participate in the Veterans and Interstate Match. States are encouraged to participate in any additional matches available. The Member and Partner states must submit Medicaid data (at a minimum) when submitting their quarterly match input. States are encouraged to submit Food Stamp and Temporary Assistance to Needy Families (TANF) data also.

(11) If one is scheduled, representatives from both Member and Partner states must participate in a Public Forum and present results obtained.

Member states should have a thorough knowledge of the PARIS Project, its procedures and intricacies of both submitting data and analyzing the resulting output. Expected outcomes from the partnership must include:

(1) Facilitating the development, support and maintenance of the PARIS Project in the Partner state to ensure that a process is firmly established to strengthen and support the viability of the matching process and the potential to save funding;

(2) Conducting a needs assessment of required services, and if necessary, recommending alternatives for how they might be achieved;

(3) Developing internal operating controls and procedures related to the PARIS program in the Partner state;

(4) Facilitating networks, IT hardware, software and available resources employing best practices needed to implement PARIS in the Partner state;

(5) Coordinating the analysis of matching data to ensure that the cost benefits of the investment will be attained;

(6) Promoting the meaningful participation of the Partner state in providing the necessary input to ensure that the appropriate data has been gathered to match in accordance with the PARIS website's specific directives;

(7) Enhancing the capacity of the Partner state to become an active participant in the PARIS Project not only for the quarterly matches during the course of the grant's project period but thereafter;

(8) The Member state is expected to train, assist and monitor the Partner state's input into the quarterly matches.

This list is meant to be illustrative, not exhaustive of the type of issues the Member state should address when preparing the application.

Additional information concerning the PARIS Project and its operation is available from the website (www.acf.hhs.gov/paris) or by calling the Federal contacts listed in this grants announcement.

Background Information

The Office of Financial Services (OFS), Office of Administration, Administration for Children and Families (ACF), is responsible for the operational aspects of the PARIS Project, a national program. OFS has ultimate responsibility for developing, interpreting and disseminating ACF's grant management policies. OFS fulfills this mission by providing financial management leadership and conducting activities to ensure the most effective use of ACF funding. OFS intends to closely monitor the progress of all grant activities.

PARIS assists states in formulating methodologies for identifying and decreasing improper payments. PARIS helps states validate that the individuals/families receiving benefits under the public assistance programs administered by ACF, the Centers for Medicare & Medicaid Services and the Food and Nutrition Service are eligible and provides data that assists in case determinations. Approved applicants must be willing to work closely with Federal and contractor staff to coordinate, assist or evaluate the activities of this venture in providing technical assistance.

II. Award Information

Funding Instrument Type: Grant.

Anticipated Total Priority Area Funding per Project Period: $1,200,000.

Anticipated Number of Awards: 1 to 8.

Ceiling on Amount of Individual Awards per Project Period: $150,000.

Floor on Amount of Individual Awards per Project Period: None.

Average Projected Award Amount per Project Period: $150,000.

Length of Project Periods: 12-month project and budget period.

III. Eligibility Information

1. Eligible Applicants

State governments.

Additional Information on Eligibility:

In the context of this grant announcement, a member state of PARIS must have participated in at least two of the last six quarterly matches from November 2003 through February 2005. The following States meet this eligibility factor: CT, DC, DE, FL, IL, KS, KY, MA, MD, MO, MS, NC, NE, NJ, NY, PA, PR, RI, TN, UT, VA and WA., and only these Member states may submit applications under this grant announcement. Any state not defined as a Member state may be considered a Partner state. The application must include the Partnership agreement as well as the appropriate signed PARIS agreement for the Partner state. A state is defined as any state within the United States of America, its territories and the District of Columbia. Eligible applicable agencies are encouraged to apply. (Please reference Section III.3 Other).

2. Cost Sharing/Matching

None.

3. Other

Any Member state may submit no more than two Partnership grant applications. All applications will be reviewed to ensure that accessible transportation exists between the capitols of the Member state and the proposed Partner state and to the amount of funding requested for the Member state versus the Partner state.

All applicants must have a Dun & Bradstreet number. On June 27, 2003, the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the governmentwide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Disqualification Factors

Applications that exceed the ceiling amount will be considered non-responsive and not be considered for funding under this announcement.

Applications that fail to satisfy the deadline requirements referenced in Section IV.3 will be considered non-responsive and not be considered for funding under this announcement.

The following additional factors will cause an application to be considered non-responsive and not be considered for funding under this announcement:

Applications that are not submitted by a Member state.

Applications that fail to include a written Partnership agreement between the Member state and Partner state.

Applications that fail to provide a signed PARIS agreement by the Partner state.

Applications that fail to specify at least two of the last six quarterly PARIS matches from November 2003 through February 2005 in which the Member state has participated.

Applications received by any applicant exceeding the two application limit per applicant.

Please reference Section III.1 Additional Information on Eligibility.

IV. Application and Submission Information

1. Address To Request Application Package

Administration for Children and Families, Office of Financial Services/Division of Financial Integrity, Mark Graboyes, 370 L'Enfant Promenade, SW., 6th Floor East, Washington, DC 20047. Phone: 202-401-7237. Email: mgraboyes@acf.hhs.gov.

2. Content and Form of Application Submission

Applications must contain a partnership agreement from the Partner state indicating its agreement to team with the Member state for purposes of this grant.

You may submit your application to ACF in either electronic or paper format.

To submit an application electronically, please use the http://www.Grants.gov/Apply site. If you use Grants.gov, you will be able to download a copy of the application package, complete it off-line, and then upload and submit the application via the Grants.gov site. ACF will not accept grant applications via email or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Note that this application requires proof of an agreement between the PARIS Member state and its Partner state as well as a signed PARIS agreement (available on the PARIS website). If submitting electronically, these agreements should be scanned and attached as an “Other” document in Grants.gov.

Applicants that are submitting their application in paper format should submit an original and two copies of the complete application. The original and each of the two copies must include all required forms, certifications, assurances, and appendices, be signed by an authorized representative, have original signatures and be submitted unbound.

Standard Forms and Certifications

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Please see Section V.1, for instructions on preparing the full project description.

3. Submission Dates and Times

Due Date for Applications: June 24, 2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Receipt acknowledgement for application packages will not be provided to applicants who submit their package via mail, courier services, or by hand delivery. However, applicants will receive an electronic acknowledgement for applications that are submitted via http://www.Grants.gov.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Checklist

You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 | See http://www.acf/hhs/gov/programs/ofs/forms.htm | By date of award.
Table of Contents | See Section IV.2 | Found in Section IV.2 | By application due date.
SF424A | See Section IV.2 | See http://www.acf.hhs.gov/programs/ofs/forms.htm | By application due date.
PARIS Agreement | See Sections I and III.3 | Agreement between state and PARIS Project | By application due date.
Partnership Agreement | See Sections I and III.3 | Agreement between Member and Partner states | By application due date.
SF424B | See Section IV.2 | See http://www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, states may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official state process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a state, Territory, Commonwealth, etc. does not have a SPOC. Therefore, applicants from these jurisdictions, or for projects administered by Federally-recognized Indian Tribes, need take no action in regard to E.O. 12372.

The official list, including addresses, of the jurisdictions that have elected to participate in E.O. 12372 can be found on the following URL: http://www.whitehouse.gov/omb/grants/spoc.html.

5. Funding Restrictions

Grant awards will not allow reimbursement of pre-award costs.

There is no construction allowed on this project. Foreign travel is prohibited. Equipment purchases are not allowed, although software, if necessary to support PARIS data development and analysis, may be acquired by the Partner state.

6. Other Submission Requirements

Submission by Mail: An applicant must provide an original application with all attachments, signed by an authorized representative and two copies. Please see Section IV.3 for an explanation of due dates. Applications should be mailed to: Administration for Children and Families, Office of Grants Management, Attn: Daphne Weeden, 370 L'Enfant Promenade, SW., 4th Floor East, Aerospace Center, Washington, DC 20447.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Administration for Children and Families, Office of Grants Management, Attn: Daphne Weeden, 370 L'Enfant Promenade, SW., 4th Floor East, Aerospace Center, Washington, DC 20447.

Electronic Submission: http://www.Grants.gov. Please see Section IV.2 for guidelines and requirements when submitting applications electronically.

V. Application Review Information

The Paperwork Reduction Act of 1995 (Pub. L. 104-13)

Public reporting burden for this collection of information is estimated to average 15 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants are required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Geographic Location

Describe the precise location of the project and boundaries of the area to be served by the proposed project. Maps or other graphic aids may be attached.

Additional Information

Following are requests for additional information that need to be included in the application:

Staff and Position Data

Provide a biographical sketch and job description for each key person appointed. Job descriptions for each vacant key position should be included as well. As new key staff is appointed, biographical sketches will also be required.

Plan for Project Continuance Beyond Grant Support

Provide a plan for securing resources and continuing project activities after Federal assistance has ended.

Business Plan

When Federal grant funds will be used to make an equity investment, provide a business plan. The business plan shall include:

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a state taxing body, state attorney general, or other appropriate state official certifying that the applicant organization has a non-profit status and that none of the net earnings accrue to any private shareholders or individuals; (d) a certified copy of the organization's certificate of incorporation or similar document that clearly establishes non-profit status, (e) any of the items immediately above for a state or national parent organization and a statement signed by the parent organization that the applicant organization is a local non-profit affiliate.

Dissemination Plan

Provide a plan for distributing reports and other project outputs to colleagues and the public. Applicants must provide a description of the kind, volume and timing of distribution.

Third-Party Agreements

Provide written and signed agreements between grantees and subgrantees or subcontractors or other cooperating entities. These agreements must detail scope of work to be performed, work schedules, remuneration, and other terms and conditions that structure or define the relationship.

Letters of Support

Provide statements from community, public and commercial leaders that support the project proposed for funding. All submissions should be included in the application or by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non-Federal resources” are all other Federal and non-Federal resources. It is suggested that budget amounts and computations be presented in a columnar format: First column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than states that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Total Direct Charges, Total Indirect Charges, Total Project Costs

Evaluation Criteria:

The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Results or Benefits Expected 25 Points

The application will be evaluated in terms of the extent to which it identifies results and benefits to be derived and the anticipated contributions to the advancement of the PARIS Project. The application will be evaluated on the extent to which it clearly describes project benefits and results as they relate to the objectives of the project and provide a basis as to what extent the project will build on current practice and best practices to contribute to the continuing success of the PARIS Project.

Objectives and Need for Assistance 25 Points

The application will be evaluated in terms of the extent to which it describes the context of the proposed demonstration project, including the environment and magnitude of the Member-Partner state relationship and what will be resolved and the needs to be addressed. Applications requesting funds should include a summary/abstract of the project goals and projected accomplishments during the grant's period of performance.

Approach 25 Points

Applications will be evaluated in terms of the extent to which they include a plan that (1) reflects an understanding of the characteristics, needs and services that are available from the PARIS Project and the potential for helping its Partner state achieve provision of services that directly address the fulfillment of the PARIS Project; (2) is appropriate and feasible; (3) can be reliably evaluated; (4) if successfully implemented, can be sustained after Federal funding has ceased.

Budget and Budget Justification 10 Points

Adequacy and reasonableness of proposed budget for accomplishing all program objectives.

Geographic Location 10 Points

Proximity of PARIS Member state and its Partner state. Member states are encouraged to look to their contiguous states (which might reduce travel and per-diem expenses depending on the location of their state capitols) or other states where accessible transportation exists to help ensure that the majority of grant funds are utilized for costs other than travel.

Third-Party Agreements 5 Points

Application includes signed written agreement between PARIS Member state and its Partner state that fully describes roles and responsibilities of each and evidences their agreement to support the PARIS Evaluation contractor during the project period.

2. Review and Selection Process

No grant award will be made under this announcement on the basis of an incomplete application.

If an insufficient number of acceptable applications, as determined by ACF, are received under this program announcement ACF has the option of negotiating and awarding grant amounts higher than the $150,000 award ceiling set forth in this announcement among those applicants who have submitted acceptable applications.

Initial Screening: Each application submitted will be screened to determine whether it was received by the closing date and time.

Applications received by the closing date and time will be reviewed for completeness and conformity with the requirements listed in this announcement. Late applications or those exceeding the funding limit will be returned to the applicants with a notation that they were unacceptable and will not be reviewed.

Evaluation of Applications: Applications that pass the initial screening will be reviewed and rated by a panel based on the program elements and review criteria presented in relevant sections of this program announcement.

The review criteria are designed to enable the review panel to assess the quality of a proposed project and determine the likelihood of its success. The criteria are closely related to each other and are considered as a whole in judging the overall quality of an application. The review panel awards points only to applications that are responsive to the program elements and relevant review criteria within the context of this program announcement.

ACF will use the reviewer scores when considering competing applications. Reviewer scores will weigh heavily in funding decisions, but will not be the only factors considered. Applications generally will be considered in order of the average scores assigned by the review panel. Because other important factors are taken into consideration, highly ranked applications are not guaranteed funding. These other considerations include, for example: Comments of reviewers and government officials; staff evaluation and input; amount and duration of the grant requested and the proposed project's consistency and harmony with the goals of the PARIS Project; geographic distribution of applications; previous program performance of applicants; compliance with grant terms under previous HHS grants; previous audit findings; and applicant's progress in resolving any final audit disallowance on previous ACF or other Federal agency grants.

Applications that are approved but unfunded may be held over for funding in the next funding cycle, pending the availability of funds, for a period not to exceed one year.

3. Anticipated Announcement and Award Dates

It is anticipated that the grant awards will be awarded in the fourth quarter of FY2005.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Grantees are subject to the requirements in 45 CFR Part 92 (governmental).

Direct Federal grants, subaward funds, or contracts under this Program shall not be used to support inherently religious activities such as religious instruction, worship, or proselytization. Therefore, organizations must take steps to separate, in time or location, their inherently religious activities from the services funded under this Program. Regulations pertaining to the prohibition of Federal funds for inherently religious activities can be found on the HHS web site at: http://www.os.dhhs.gov/fbci/waisgate21.pdf

3. Reporting Requirements

Program Progress Reports: Quarterly

Financial Reports: Quarterly

Grantees will be required to submit program progress and financial reports (SF 269) throughout the project period. Program progress and financial reports are due 30 days after the reporting period. In addition, final programmatic and financial reports are due 90 days after the close of the project period.

VII. Agency Contacts

Program Office Contact: Administration for Children and Families, Office of Financial Services/Division of Financial Integrity, Attn: Mark Graboyes, 370 L' Enfant Promenade, SW., 6th Floor East, Aerospace Center, Washington, DC 20447. Phone: 202-401-7237. Email: mgraboyes@acf.hhs.gov.

Grants Management Office Contact: Administration for Children and Families, Office of Grants Management, Attn: Daphne Weeden, 370 L' Enfant Promenade, SW., 4th Floor East, Aerospace Center, Washington, DC 20447. Phone: 202-401-4575. Email: dweeden@acf.hhs.gov.

VIII. Other Information

Notice: Beginning with FY2006, ACF will no longer publish grant announcements in the Federal Register. Beginning October 1, 2005, applicants will be able to find a synopsis of all ACF grant opportunities and apply electronically for opportunities via: www.Grants.gov. Applicants will also be able to find the complete text of all ACF grant announcements on the ACF web site located at: http://www.acf.hhs.gov/grants/index.html.

Please reference Section IV.3 for details about acknowledgement of received applications.

Dated: April 19, 2005.
Curtis L. Coy,
Director, Office of Administration, Administration for Children and Families.

[FR Doc. 05-8218 Filed 4-22-05; 8:45 am]

BILLING CODE 4184-01-P